DEPARTMENT OF COMMERCE

Foreign-Trade Zones Board

[S-214-2023]

Approval of Subzone Status; Helena Industries, LLC; Cordele, Georgia

On November 8, 2023, the Executive Secretary of the Foreign-Trade Zones (FTZ) Board docketed an application submitted by Georgia Foreign-Trade Zone, Inc., grantee of FTZ 26, requesting subzone status subject to the existing activation limit of FTZ 26, on behalf of Helena Industries, LLC, in Cordele, Georgia.

The application was processed in accordance with the FTZ Act and Regulations, including notice in the Federal Register inviting public comment (88 FR 77952, November 14, 2023; correction 88 FR 80272, November 17, 2023). The FTZ staff examiner reviewed the application and determined that it meets the criteria for approval. Pursuant to the authority delegated to the FTZ Board Executive Secretary (15 CFR 400.36(f)), the application to establish Subzone 26X was approved on January 29, 2024, subject to the FTZ Act and the Board's regulations, including section 400.13, and further subject to FTZ 26's 2,000-acre activation limit.

Dated: January 29, 2024.
Elizabeth Whiteman,
Executive Secretary.

[FR Doc. 2024-02000 Filed 1-31-24; 8:45 am]

BILLING CODE 3510-DS-P